TENNESSEE VALLEY AUTHORITY

Sunshine Act Meeting

Agency Holding the Meeting: Tennessee Valley Authority (Meeting No. 1520).

Time and Date: 9 a.m. (EDT), June 21, 2000.

Place: TVA Knoxville West Tower Auditorium, 400 West Summit Hill Drive, Knoxville, Tennessee.

Status: Open.

Agenda

Approval of minutes of meeting held on May 11, 2000.

New Business

C—Energy

C1. Supplement to indefinite quantity term Contract No. 97X8F-174063-000 with Piping and Equipment Company for pipe, pipe fittings, and related materials.

C2. Supplements to contracts with Mesa Associates, Inc., and Sargent & Lundy LLC for engineering and design services for Transmission/Power Supply Group.

C3. Supplement to contract with The L. E. Myers Company for general construction/craft services related to Transmission/Power Supply Group's construction program.

C4. Supplement to Contract No. 97X1E-197652 for transmission equipment and supplement to Contract No. 99P4E-228019 for power transformers with ABB T&D Company.

C5. Term contract with Electric Fuels Corporation for low-sulfur coal supply to Kingston Fossil Plant.

E—Real Property Transactions

E1. Approval of a public auction of approximately 3.07 acres of TVA land affecting the former Mayfield, Kentucky, Area Operating Headquarters in Graves County, Kentucky (Tract No. XMAH-1), and rescission of the January 27, 2000, approval of the sale of a permanent easement affecting this tract to the Mayfield Electric and Water Systems.

E2. Abandonment of approximately 3.55 acres of the Norris Hydro-Clinton transmission line easement in Anderson County, Tennessee (Tract Nos. NDC-13 and NDC-14).

E3. Grant of a permanent easement for a sewerline affecting approximately 2.95 acres of TVA land on Pickwick Reservoir in Lauderdale County, Alabama (Tract No. XTPR-68S).

E4. Deed modification affecting approximately 0.41 acre of former TVA land on Chickamauga Reservoir in Hamilton County, Tennessee (Tract No. XCR-71:37).

E5. Deed modification affecting approximately 0.10 acre of former TVA land on Watts Bar Reservoir in Roane County, Tennessee (Tract No. XTWBR-59).

E6. Deed modification affecting approximately 13.6 acres of land on Chickamauga Reservoir in Hamilton County, Tennessee (Tract No. XCR-44).

E7. Grants of permanent easements for a sewage treatment plant (Tract No. XTPR-65SP), a wastwater discharge line (Tract No. XTPR-66S), and a recreational easement (Tract No. XTPR-67RE) for the use and benefit of the Tennessee Department of Environment and Conservation, to serve Pickwick Landing State Park and Pickwick Dam facilities affecting approximately 85.2 acres of land on Pickwick Reservoir in Hardin County, Tennessee.

E8. Modification of a permanent easement for public recreation affecting approximately 0.2 acre of land on Fort Loudoun reservoir in Knox County, Tennessee (Tract No. XTFL-122RE), to allow for commercial uses in addition to public recreation.

F—Unclassified

1. Approval to file a condemnation case to acquire additional easement rights for an existing transmission line easement involving the Murfreesboro-Smyrna No. 2 transmission line in Rutherford County, Tennessee.

Information Item

1. Designation of law enforcement officer positions under Civil Service Retirement System and Office of Personnel Management regulations.

For more information: Please call TVA Public Relations at (423) 632-6000, Knoxville, Tennessee. Information is also available at TVA's Washington Office (202) 898-2999. People who plan to attend the meeting and have special needs should call (865) 632-6000.

Dated: June 14, 2000.
Edward S. Christenbury,
General Counsel and Secretary.

[FR Doc. 00-15459 Filed 6-15-00; 10:51 am]

BILLING CODE 8120-08-M